DEPARTMENT OF JUSTICE

Antitrust Division

Notice Pursuant to the National Cooperative Research and Production Act of 1993—Optical Internetworking Forum

Notice is hereby given that, on July 22, 2002, pursuant to section 6(a) of the National Cooperative Research and Production Act of 1993, 15 U.S.C. 4301 et seq. (“the Act”), Optical Internetworking Forum has filed written notifications simultaneously with the Attorney General and the Federal Trade Commission disclosing changes in its membership status. The notifications were filed for the purpose of extending the Act's provisions limiting the recovery of antitrust plaintiffs to actual damages under specified circumstances. Specifically, Dynamost, Murray Hill, NJ; Opticalis Systems, Center Valley, PA; ZTE Corporation, Shenzhen, GuangDong, People's Republic of China; Agere Systems, Murray Hill, NJ; Booz Allen Hamilton, Linthicum, MD; Larscom, Milpitas, CA; NetTest, Brondby, Denmark; Santel Networks, Newark, CA; TSRI, Deerfield, IL; Southampton Photonics, Southampton, United Kingdom; Xignal Technologies, Unterhaching, Germany; Centellax, Santa Rosa, CA; MultiWave Networks, Sunnyvale, CA; Corrigent Systems, San Jose, CA; Wavecrest Corporation, Eden Prairie, MN; and Equipe Communications, Acton, MA have been added as parties to this venture.

Also, KPN Telecom, Leidschendam, The Netherlands; Zettacom, Santa Clara; CA; Global Crossing, Madison, NJ; New Focus, San Jose, CA; Quantum Bridge, Andover, MA; AON Networks, Palo Alto, CA; Allegro Networks, San Jose, CA; Continuum Networks, Colorado Springs, CO; Gigatera, Dietikon, Switzerland; and Clearwater Networks, Los Gatos, CA have been dropped as parties to this venture.

The following members have changed their names, Zepton Networks to Infinera, Sunnyvale, CA; Blueleaf Networks to Picarro, Sunnyvale, CA; Equant to Equant Telecommunications SA, Sophia Antipolis, France; XLOptics to Transpectrum, Los Angeles, CA; Gore & Associates to W.L. Gore & Associates, Elkton, MD; Xelerated Packet Devices to Xelerated, Stockholm, Sweden; and Korea Telecom to KT Corp., Taejeon, Republic of Korea.

The following members have been involved with mergers: Astral Point, Chelmsford, MA has merged with Alcatel, Antwerpen, Belgium; Net Brahma Technologies, Bangalore, India has merged into Metro-Optix, Alan, TX; Ebone, Hoeilaart, Belgium has merged into KPNQwest, Hoeilaart, Belgium; Catamaran, San Jose, CA has merged into Infineon, San Jose, CA; and Virata, Cambridge, Cambridgeshire, United Kingdom has merged with GlobespranVirata, Cambridge, Cambridgeshire, United Kingdom.

No other changes have been made in either the membership or planned activity of the group research project. Membership in this group research project remains open, and Optical Internetworking Forum intends to file additional written notification disclosing all changes in membership.

On October 5, 1998, Optical Internetworking Forum filed its original notification pursuant to section 6(a) of the Act. The Department of Justice published a notice in the Federal Register pursuant to section 6(b) of the Act on January 29, 1999 (64 FR 4709).

The last notification was filed with the Department on March 28, 2002. A notice was published in the Federal Register pursuant to section 6(b) of the Act on May 29, 2002 (67 FR 37441).

Constance K. Robinson,
Director of Operations, Antitrust Division.

[FR Doc. 02-22457 Filed 9-3-02; 8:45 am]

BILLING CODE 4410-11-M